DEPARTMENT OF TRANSPORTATION

Federal Aviation Administration

14 CFR Part 39

[Docket No. 2000-CE-06-AD]

RIN 2120-AA64

Airworthiness Directives; Raytheon Aircraft Company Beech Models A36, B36TC, and 58 Airplanes

AGENCY: Federal Aviation Administration, DOT.

ACTION: Notice of proposed rulemaking (NPRM).

SUMMARY: This document proposes to adopt a new airworthiness directive (AD) that would apply to certain Raytheon Aircraft Corporation (Raytheon) Beech Models A36, B36TC, and 58 airplanes. The proposed AD would require you to inspect for misrouted rudder control cables; replace any worn or damaged guard pins; replace any pulley brackets that are damaged or worn; and replace any misrouted rudder control cables. Three reports of misrouted cables prompted the proposed action. The actions specified by this proposed AD are intended to correct the misrouted rudder control cable and consequent guard pin wear or fraying of the cables with loss of rudder control.

DATES: The Federal Aviation Administration (FAA) must receive any comments on this proposed rule on or before September 22, 2000.

ADDRESSES: Submit comments in triplicate to the Federal Aviation Administration (FAA), Central Region, Office of the Regional Counsel, Attention: Rules Docket No. 2000-CE-06-AD, 901 Locust, Room 506, Kansas City, Missouri 64106. You may inspect comments at this location between 8 a.m. and 4 p.m., Monday through Friday, except holidays.

You may get the service information referenced in the proposed AD from Raytheon Aircraft Company, P.O. Box 85, Wichita, Kansas 67201-0085; telephone: (800) 429-5372 or (316) 676-3140; on the Internet at <http://www.raytheon.com/rac/servinfo/27-3265.pdf>. This file is in Adobe Portable Document Format. The Acrobat Reader is available at

<http://www.adobe.com/>. You may examine this information at the Rules Docket at the address above.

FOR FURTHER INFORMATION CONTACT: Paul C. DeVore, Aerospace Engineer, FAA, Wichita Aircraft Certification Office, 1801 Airport Road, Mid-Continent Airport, Wichita, Kansas 67209; telephone: (316) 946-4142; facsimile: (316) 946-4407.

SUPPLEMENTARY INFORMATION:

Comments Invited

How do I comment on this proposed AD?

We invite your comments on the proposed rule. You may submit whatever written data, views, or arguments you choose. You need to include the rule's docket number and submit your comments in triplicate to the address specified under the caption ADDRESSES. We will consider all comments received on or before the closing date specified above, before acting on the proposed rule. We may change the proposals contained in this notice in light of the comments received.

Are there any specific portions of the AD I should pay attention to?

The FAA specifically invites comments on the overall regulatory, economic, environmental, and energy aspects of the proposed rule that might necessitate a need to modify the proposed rule. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment?

If you want us to acknowledge the receipt of your comments, you must include a self-addressed, stamped postcard. On the postcard, write “Comments to Docket No. 2000-CE-06-AD.” We will date stamp and mail the postcard back to you.

Discussion

What events have caused this proposed AD?

The FAA has received three reports of instances of misrouted cables. In one instance, a report noted complete separation of the rudder cable. In another instance, a report noted fraying of the rudder cable. Raytheon has issued a mandatory service bulletin affecting these model airplanes:

Beech Model A36—serial numbers E-2519 through E-3140

Beech Model B36TC—serial numbers EA-501 through EA-608

Beech Model 58—serial numbers TH-1576 through TH-1838

What are the consequences if the condition is not corrected?

This condition could result in guard pin wear and separation or fraying of the cables with loss of rudder control.

Relevant Service Information

What service information applies to this subject?

Raytheon has issued Mandatory Service Bulletin SB 27-3265, dated January 2000.

What are the provisions of this service bulletin?

The service bulletin describes procedures for inspecting for proper routing of the rudder control assemblies.

The FAA's Determination and an Explanation of the Provisions of the Proposed AD

What has FAA decided?

After examining the circumstances and reviewing all available information related to the incidents described above, we have determined that:

—the unsafe condition referenced in this document exists or could develop on other Raytheon Beech Models A36, B36TC, and 58 airplanes of the same type design;

—these airplanes should have the actions specified in the above service bulletin incorporated; and

—the FAA should take AD action in order to correct this unsafe condition.

What does this proposed AD require?

This proposed AD would require you to:

—inspect for misrouted rudder control cables;

—replace any worn or damaged guard pins;

—replace any pulley brackets that are damaged or worn; and

—replace any misrouted rudder control cables.

What are the differences between the service bulletin and the proposed AD?

Raytheon Aircraft requires you to inspect and, if necessary, replace guard pins, pulley brackets, and rudder control cables at the next scheduled inspection after receipt of the Service Bulletin, but no later than the next 50 flight hours. We propose a requirement that you inspect and, if necessary, replace guard pins, pulley brackets, and rudder control cables within the next 50 hours time-inservice (TIS) of operation after the effective date of the proposed AD. We believe that 50 hours TIS will give the owners/operators of the affected airplanes enough time to have the proposed actions accomplished without compromising the safety of the airplanes.

Cost Impact

How many airplanes does this proposed AD impact?

We estimate that the proposed AD would affect 842 airplanes in the U.S. registry.

What is the cost impact of the proposed action for the affected airplanes on the U.S. Register?

We estimate that it would take approximately 1 workhour per airplane to accomplish the proposed inspection, at an average labor rate of $60 an hour. Based on the figures presented above, we estimate that the total cost impact of the proposed inspection on U.S. operators is $50,520, or $60 per airplane.

We estimate that it would take approximately 4 workhours per airplane to accomplish the proposed rudder control replacement, at an average labor rate of $60 an hour. Based on the cost factors presented above, we estimate that the total cost impact of the proposed rudder control replacement on U.S. operators is $240 per airplane.

We estimate that it would take approximately 2 workhours per airplane to accomplish the proposed rudder pulley bracket replacement, at an average labor rate of $60 an hour. Raytheon will provide parts at no cost to the owners/operators of the affected airplanes. Based on the cost factors presented above, we estimate that the total cost impact of the proposed rudder pulley bracket replacement on U.S. operators is $120 per airplane.

The manufacturer will also allow warranty credit for labor to the extent noted in the service bulletin.

Regulatory Impact

Does this proposed AD impact relations between Federal and State governments?

The proposed regulations would not have substantial direct effects on the States, on the relationship between the national government and the States, or on the distribution of power and responsibilities among the various levels of government. We have determined that this proposed rule would not have federalism implications under Executive Order 13132.

Does this proposed AD involve a significant rule or regulatory action?

For the reasons discussed above, I certify that this proposed action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Raytheon Aircraft Company:

Docket No. 2000-CE-06-AD.

(a) What airplanes are affected by this AD? The following Beech Models and serial number airplanes, certified in any category:

Model | Serial Nos.
A36 | E-2519 through E-3140.
B36TC | EA-501 through EA-608.
58 | TH-1576 through TH-1838.

(b) Who must comply with this AD? Anyone who wishes to operate any of the above airplanes on the U.S. Register must comply with this AD.

(c) What problem does this AD address? The actions specified by this AD are intended to correct the misrouted rudder control cable and consequent guard pin wear or fraying of the cables with loss of rudder control.

(d) What must I do to address this problem? To address this problem, you must accomplish the following actions:

Actions | Compliance times | Procedures
(1) Inspect rudder control cables that are routed around the pulley and through the brackets | Inspect within the next 50 hours time-in-service after the effective date of this AD, and accomplish all follow-on actions, such as replacements before further flight after the inspection | Accomplish this inspection in accordance with the ACCOMPLISHMENT INSTRUCTIONS paragraph of Raytheon Mandatory Service Bulletin SB 27-3265, Issued: January 2000, and the applicable airplane Maintenance Manual or Shop Manual.
(i) Replace any worn or damaged guard pins
(ii) Inspect pulley brackets for wear and damage, and replace as necessary
(iii) If rudder cables are routed properly, check the airplane log book to determine if a misrouted control cable was detected during maintenance and the misrouting was corrected
(2) If a misrouting has been recorded or found during this inspection, install replacement rudder control cables in accordance with the following: | Before further flight after the inspection | Accomplish this action in accordance with the ACCOMPLISHMENT INSTRUCTIONS paragraph of Raytheon Mandatory Service Bulletin SB 27-3265, Issued: January 2000, and the applicable airplane Maintenance Manual or Shop Manual.
(i) Apply corrosion preventive compounds, as necessary, to provide corrosion protection
(ii) Install rudder control cables
(iii) Adjust rudder control cables to correct tension and adjust control surface travel
(iv) Perform an operational checkout of the flight control system to ensure proper operation of installed rudder control cables, pulley brackets, guard pins and attaching hardware

(e) Can I comply with this AD in any other way?

You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact Paul C. DeVore, Aerospace Engineer, Wichita Aircraft Certification Office, FAA, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get the service information referenced in the AD from Raytheon Aircraft Company, P.O. Box 85, Wichita, Kansas 67201-0085; telephone: (800) 429-5372 or (316) 676-3140; on the Internet at <http://www.raytheon.com/rac/ servinfo/27-3265.pdf>. This file is in Adobe Portable Document Format. The Acrobat Reader is available at <http://www.adobe.com/>. You may examine this document at FAA, Central Region, Office of the Regional Counsel, 901 Locust, Room 506, Kansas City, Missouri 64106.

Issued in Kansas City, Missouri, on August 14, 2000.
Michael Gallagher,
Manager, Small Airplane Directorate, Aircraft Certification Service.

[FR Doc. 00-21617 Filed 8-23-00; 8:45 am]

BILLING CODE 4910-13-U